FEDERAL COMMUNICATIONS COMMISSION

Information Collection Being Submitted for Review and Approval to the Office of Management and Budget

AGENCY: Federal Communications Commission.

ACTION: Notice; request for comments.

SUMMARY: As part of its continuing effort to reduce paperwork burden and as required by the Paperwork Reduction Act (PRA) of 1995 (44 U.S.C. 3502 -3520), the Federal Communications Commission invites the general public and other Federal agencies to take this opportunity to comment on the following information collection(s). Comments are requested concerning: Whether the proposed collection of information is necessary for the proper performance of the functions of the Commission, including whether the information shall have practical utility; the accuracy of the Commission's burden estimates; ways to enhance the quality, utility, and clarity of the information collected; ways to minimize the burden of the collection of information on the respondents, including the use of automated collection techniques or other forms of information technology; and ways to further reduce the information collection burden on small business concerns with fewer than 25 employees.

The FCC may not conduct or sponsor a collection of information unless it displays a currently valid OMB control number. No person shall be subject to any penalty for failing to comply with a collection of information subject to the Paperwork Reduction Act (PRA) that does not display a valid OMB control number.

DATES: Written Paperwork Reduction Act (PRA) comments should be submitted on or before November 2, 2012. If you anticipate that you will be submitting PRA comments, but find it difficult to do so within the period of time allowed by this notice, you should advise the FCC contact listed below as soon as possible.

ADDRESSES: Submit your PRA comments to Nicholas A. Fraser, Office of Management and Budget (OMB), via fax at 202-395-5167 or via Internet at Nicholas_A._Fraser@omb.eop.gov and to Judith B. Herman, Federal Communications Commission, via the Internet at Judith-b.herman@fcc.gov. To submit your PRA comments by email send them to: PRA@fcc.gov.

FOR FURTHER INFORMATION CONTACT: Judith B. Herman, Office of Managing Director, FCC, at 202-418-0214.

SUPPLEMENTARY INFORMATION: OMB Control Number: 3060-0999.

Title: Hearing Aid Compatibility Status Report and Section 20.19, Hearing Aid-Compatible Mobile Handsets (Hearing Aid-Compatibility Act).

Form Number: FCC Form 655.

Type of Review: Revision of a currently approved collection.

Respondents: Business or other for-profit entities.

Number of Respondents: 925 respondents; 925 responses.

Estimated Time per Response: 13.041081 hours.

Frequency of Response: On occasion and annual reporting requirements and third party disclosure requirements.

Obligation to Respond: Required to obtain or retain benefits. Statutory authority for this information collection is contained in 47 U.S.C. 151, 154(i), 157, 160, 201, 202, 208, 214, 301, 303, 308, 309(j), 310 and 610 of the Communications Act of 1934, as amended.

Total Annual Burden: 12,063 hours.

Total Annual Cost: N/A.

Privacy Impact Assessment: N/A.

Nature and Extent of Confidentiality: Information requested in the reports may include confidential information. However, covered entities are allowed to request that such materials submitted to the Commission be withheld from public inspection under 47 CFR 0.459 of the Commission's rules.

Needs and Uses: The Commission is now submitting this collection to the Office of Management and Budget (OMB) for approval of a revision of this information collection. The Commission's previous burden estimates have not changed.

On April 9, 2012, the Commission adopted final rules in a Third Report and Order, DA12-550, which adopts the 2011 revision of the hearing aid compatibility technical standard (ANSI Standard) as an applicable technical standard alongside the 2007 version that is already in the Commission's rules.

Under the 2011 ANSI Standard, the Commission tailored its existing disclosure requirements to address new situations that may arise. Specifically, the Commission adopted a requirement to inform users about any operations in handsets that a manufacturer may have tested under the 2011 version of the ANSI Standard and found not to meet hearing aid compatibility criteria for those operations. The Commission also adopted a requirement to make disclosure about any handsets that have not been tested for the inductive coupling capability of Voice over Long Term Evolution (VoLTE) transmissions.

The Commission is now modifying the FCC Form 655 to collect information that is relevant to the newly effective provisions of the rule and to clarify and streamline existing fields. See the 60 day notice published in the Federal Register on July 30, 2012 (77 FR 444614) for the specific changes made to the form.

Federal Communications Commission.
Bulah P. Wheeler,
Associate Secretary, Office of the Secretary, Office of Managing Director.

[FR Doc. 2012-24407 Filed 10-2-12; 8:45 am]

BILLING CODE 6712-01-P